DEPARTMENT OF THE TREASURY

Submission for OMB Review; Comment Request

May 18, 2009

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 25, 2009 to be assured of consideration.

Financial Crimes Enforcement Network (FinCEN)

OMB Number: 1506-0005.

Type of Review: Revision.

Form: FinCEN 103.

Title: Currency Transaction Report by Casinos.

Description: Casinos and card clubs file Form 103 for currency transactions in excess of $10,000 a day pursuant to 31 U.S.C. 5313(a) and 31 CFR 103.22(a)(2). The form is used by criminal investigators, and taxation and regulatory enforcement authorities, during the course of investigations involving financial crimes.

Respondents: Businesses or other for-profits.

Estimated Total Reporting Burden: 230,000 hours.

OMB Number: 1506-0014.

Type of Review: Extension .

Form: FINCEN-105.

Title: Report of International Transportation of Currency or Monetary Instruments.

Description: FinCEN, and the Department of Homeland Security (DHS) and the DHS Bureaus, are required under 31 U.S.C. 5316(a) to collect information regarding mailing, shipment, or transportation of currency or monetary instruments of more than $10,000 in value into or out of the United States

Respondents: Individuals or Households

Estimated Total Reporting Burden: 140,000 hours.

OMB Number: 1506-0033.

Type of Review: Extension.

Title: Customer Identification Programs for Mutual Funds.

Description: Mutual Funds are required to establish and maintain customer identification programs. A copy of the written program must be maintained for five years. See 31 CFR 103.131.

Respondents: Businesses or other for-profits.

Estimated Total Reporting Burden: 266,700 hours.

OMB Number: 1506-0026.

Type of Review: Extension.

Title: Customer identification programs for banks, savings associations, credit unions, and certain non-federally regulated banks.

Description: Banks, savings associations, credit unions, and certain non-federally regulated banks are required to develop and maintain customer identification programs. See 31 CFR 103.121.

Respondents: Businesses or other for-profits.

Estimated Total Reporting Burden: 242,660 hours.

OMB Number: 1506-0006.

Type of Review: Revision.

Form: 102.

Title: Suspicious Activity Report by Casinos and Card Clubs.

Description: Under 31 CFR 103.21, the Treasury is requiring casinos and card clubs with annual gaming revenue of more than $1,000,000 to report suspicious activities.

Respondents: Businesses or other for-profits.

Estimated Total Reporting Burden: 33,600 hours.

Clearance Officer: Russell Stephenson (202) 354-6012, Department of the Treasury, Financial Crimes Enforcement Network, P.O. Box 39, Vienna, VA 22183.

OMB Reviewer: Shagufta Ahmed, (202) 395-7873, Office of Management and Budget, Room 10235, New Executive Office Building, Washington, DC 20503.

Celina Elphage,
Treasury PRA Clearance Officer.

[FR Doc. E9-12125 Filed 5-22-09; 8:45 am]

BILLING CODE 4810-02-P